DEPARTMENT OF DEFENSE

GENERAL SERVICES ADMINISTRATION

NATIONAL AERONAUTICS AND SPACE ADMINISTRATION

48 CFR Parts 52 and 53

[FAC 2005-52; Item VI; Docket 2011-0078; Sequence 2]

Federal Acquisition Regulation; Technical Amendments

AGENCY: Department of Defense (DoD), General Services Administration (GSA), and National Aeronautics and Space Administration (NASA).

ACTION: Final rule.

SUMMARY: This document makes amendments to the Federal Acquisition Regulation in order to make editorial changes.

DATES: Effective Date: May 31, 2011.

FOR FURTHER INFORMATION CONTACT: The Regulatory Secretariat, 1275 First Street, NE., 7th Floor, Washington, DC 20417, (202) 501-4755, for information pertaining to status or publication schedules. Please cite FAC 2005-52, Technical Amendments.

SUPPLEMENTARY INFORMATION: In order to update certain elements in 48 CFR parts 52 and 53, this document makes editorial changes to the Federal Acquisition Regulation.

List of Subjects in 48 CFR Parts 52 and 53

Government procurement.

Dated: May 18, 2011.
Millisa Gary,
Acting Director, Office of Governmentwide Acquisition Policy.

Therefore, DoD, GSA, and NASA amend 48 CFR parts 52 and 53 as set forth below:

1. The authority citation for 48 CFR parts 52 and 53 continues to read as follows:

Authority: 40 U.S.C. 121(c); 10 U.S.C. chapter 137; and 42 U.S.C. 2473(c).

PART 52—SOLICITATION PROVISIONS AND CONTRACT CLAUSES

52.212-3 [Amended]

2. Amend section 52.212-3 by—

a. Removing from paragraphs (c)(6)(i) and (ii), and (c)(7)(i) and (ii) “It * is, * is not” and adding “It □ is, □ is not” in their place; and

b. Removing from paragraph (c)(7)(ii) “(c)(7)(ii)” and adding “(c)(7)(i)” in its place.

PART 53—FORMS

3. Amend section 53.301-1447 by revising the form to read as follows:

53.301-1447 Solicitation/Contract.

BILLING CODE 6820-EP-P

4. Amend section 53.301-1449 by revising the form to read as follows:

§ 53.301-1449 Solicitation/Contract/Order for Commercial Items.

5. Amend section 53.302-347 by revising the form to read as follows:

§ 53.302-347 Order for Supplies or Services.

[FR Doc. 2011-12856 Filed 5-27-11; 8:45 am]

BILLING CODE 6820-EP-C